Proclamation 9787 of September 14, 2018

Prescription Opioid and Heroin Epidemic Awareness Week, 2018

By the President of the United States of America

A Proclamation

During Prescription Opioid and Heroin Epidemic Awareness Week, we acknowledge the devastating toll the opioid epidemic has inflicted on our country and its people, and we pledge to raise awareness of the dangers of prescription and illicit opioid abuse. As we continue our work to end this terrible crisis, I encourage all Americans to provide our families, friends, coworkers, and neighbors with the love and support they need as they strive to overcome addiction.

Drug overdoses are now the leading cause of deaths resulting from injury in the United States. In 2017, approximately 134 Americans died every day from an opioid overdose, and more than two million Americans suffered from addiction to prescription or illicit opioids. Between 1999 and 2017, more than 400,000 Americans, including so many of our young people, have died from overdoses involving opioids. We must aggressively combat this epidemic affecting our communities.

I have tasked my Administration with strengthening our public health and safety response to the opioid overdose crisis. In March, I released my Administration's plan to address the epidemic by reducing drug demand, cutting off the flow of illicit drugs, expanding access to overdose prevention and evidence-based treatment for opioid use disorder, and conducting research to improve prevention and treatment in the future. This interagency effort is providing targeted funding to States and communities to help people in need. Additionally, in February, I secured $6 billion in new funding for combating the opioid epidemic.

As we continue to raise awareness regarding the opioid crisis, we must work to remove the harmful stigma and misconceptions surrounding both prescription and illicit opioid abuse. I encourage those whose lives have been affected by their own personal struggle with addiction or by the struggle of a loved one to share their stories. Through platforms such as The Crisis Next Door, which the White House launched earlier this year, we are building a dialogue that has the potential to save thousands of lives.

As we observe Prescription Opioid and Heroin Epidemic Awareness Week, we reaffirm our individual roles in creating a stronger, healthier, and drug-free society. In every community, there is someone who is either fighting opioid addiction or susceptible to falling victim to it. And in every community, there is someone who could lend a helping hand. To any American currently battling addiction, whether you are in treatment or long-term recovery: we stand with you. To any American who wants to help: we have resources available to support you. Together, as one Nation, we can—and will—win the battle against the opioid epidemic.

NOW, THEREFORE, I, DONALD J. TRUMP, President of the United States of America, by virtue of the authority vested in me by the Constitution and the laws of the United States, do hereby proclaim September 16 through September 22, 2018, as Prescription Opioid and Heroin Epidemic Awareness Week. I call upon my fellow Americans to observe this week with appropriate programs, ceremonies, religious services, and other activities that raise awareness about the prescription opioid and heroin epidemic and to consider concrete follow up activities.

IN WITNESS WHEREOF, I have hereunto set my hand this fourteenth day of September, in the year of our Lord two thousand eighteen, and of the Independence of the United States of America the two hundred and forty-third.

[FR Doc. 2018-20565

Filed 9-18-18; 11:15 am]

Billing code 3295-F8-P